DEPARTMENT OF COMMERCE

National Oceanic and Atmospheric Administration

[RTID 0648-XF499]

North Pacific Fishery Management Council; Public Meeting

AGENCY: National Marine Fisheries Service (NMFS), National Oceanic and Atmospheric Administration (NOAA), Commerce.

ACTION: Notice of web conference.

SUMMARY: The North Pacific Fishery Management Council's (Council) Legislative Committee will meet March 2, 2026.

DATES: The Council's Legislative Committee will begin at 9 a.m. to 12 p.m. on Monday, March 2, 2026, Alaska Time.

ADDRESSES: The meeting will be held via web conference. Join online through the link at https://meetings.npfmc.org/Meeting/Details/3125.

Council address: North Pacific Fishery Management Council, 1007 W 3rd Ave., Suite 400, Anchorage, AK 99501-2252; telephone: (907) 271-2809. Instructions for attending the meeting via web conference are given under FOR FURTHER INFORMATION CONTACT, below.

FOR FURTHER INFORMATION CONTACT: Diana Evans, Council staff; email: devans@npfmc.org; telephone: (907) 271-2809. For technical support please contact our Council administrative staff, email: support@npfmc.org.

SUPPLEMENTARY INFORMATION:

Agenda

Monday, March 2, 2026

Legislative Committee Agenda

The Legislative Committee agenda will include a review of recently introduced Federal legislation regarding fisheries management, and an evaluation of potential impacts of legislation on the Council's ability to perform the functions specified in its grant, fulfill its responsibilities under the Magnuson-Stevens Act, or affect the Council's ability to conserve and manage marine resources and resource users. The agenda is subject to change, and the latest version will be posted at https://meetings.npfmc.org/Meeting/Details/3125 prior to the meeting, along with meeting materials.

Connection Information

You can attend the meeting online using a computer, tablet, or smart phone; or by phone only. Connection information will be posted online at: https://meetings.npfmc.org/Meeting/Details/3125. For technical support please contact our administrative staff, email: support@npfmc.org.

Public Comment

Public comment letters will be accepted and should be submitted electronically through the links at https://meetings.npfmc.org/Meeting/Details/3125. The written comment period closes at 5 p.m. Alaska Time on Sunday, March 1, 2026.

Authority: 16 U.S.C. 1801 et seq.

Dated: January 30, 2026.
Becky J. Curtis,
Acting Deputy Director, Office of Sustainable Fisheries, National Marine Fisheries Service.

[FR Doc. 2026-02193 Filed 2-2-26; 8:45 am]

BILLING CODE 3510-22-P